DEPARTMENT OF COMMERCE

International Trade Administration

[A-560-802]

Certain Preserved Mushrooms from Indonesia: Notice of Partial Rescission of Antidumping Duty Administrative Review

AGENCY: Import Administration, International Trade Administration, Department of Commerce.

ACTION: Notice of Partial Rescission of Antidumping Duty Administrative Review.

EFFECTIVE DATE: January 9, 2003.

FOR FURTHER INFORMATION CONTACT: Sophie Castro or Rebecca Trainor, Import Administration, International Trade Administration, U.S. Department of Commerce, 14th Street and Constitution Avenue, N.W., Washington, D.C. 20230; telephone: (202) 482-0588 or (202) 482-4007, respectively.

SUPPLEMENTARY INFORMATION:

Background

On February 1, 2002, the Department published in the Federal Register (67 FR 4945) a notice of “Opportunity To Request Administrative Review” of the antidumping duty order on certain preserved mushrooms from Indonesia for the period February 1, 2001, through January 31, 2002 (third review period). On February 28, 2002, the respondents, PT Dieng Djaya (“Dieng”) and PT Surya Jaya Abadi Perkasa (“Surya”)¹, PT Indo Evergreen Agro Business Corporation (“Evergreen”), and PT Zeta Agro Corporation (“Zeta”) requested an administrative review of their sales for the above-mentioned period. The petitioner, the Coalition for Fair Preserved Mushroom Trade,² did not comment. On March 27, 2002, the Department published a notice of initiation of an administrative review of the antidumping duty order on certain preserved mushrooms from Indonesia with respect to these companies. See Initiation of Antidumping and Countervailing Duty Administrative Reviews and Requests for Revocations in Part, 67 FR 14696.

¹ In accordance with 19 CFR 351.401(f), PT Dieng Djaya and PT Surya Jaya Abadi Perkasa were determined to be affiliated companies in the original less-than-fair-value investigation and are henceforth referred to as Dieng/Surya.

² The Coalition for Fair Preserved Mushroom Trade includes the American Mushroom Institute; L.K. Bowman, Inc.; Modern Mushrooms Farms, Inc.; Monterey Mushrooms, Inc.; Mount Laurel Canning Corp.; Mushroom Canning Company; Southwood Farms; Sunny Dell Foods, Inc.; and United Canning Corp.

Partial Recission of Review

On May 20, 2002, Dieng/Surya withdrew its request for an administrative review of its sales for the third review period. Section 351.213(d)(1) of the Department's regulations stipulates that the Secretary may permit a party that requests a review to withdraw the request within 90 days of the date of publication of notice of initiation of the requested review. In this case, Dieng/Surya has withdrawn its request for review within the 90-day period. We have received no other submissions regarding Dieng/Surya's withdrawal of its request for review. Therefore, we are rescinding, in part, this administrative review of the antidumping duty order on certain preserved mushrooms from Indonesia as to Dieng/Surya. This review will continue with respect to Evergreen and Zeta.

This notice is published in accordance with section 751 of the Act and 19 CFR 351.213(d)(4).

Dated: January 3, 2003.
Louis Apple,
Acting Deputy Assistant Secretary for Import Administration.

[FR Doc. 03-431 Filed 1-8-03; 8:45 am]

BILLING CODE 3510-DS-S